DEPARTMENT OF TRANSPORTATION

National Highway Traffic Safety Administration

[Docket No. NHTSA-2013-0013]

Technical Report: Effectiveness of LED Stop Lamps for Reducing Rear-End Crashes: Analyses of State Crash Data

AGENCY: National Highway Traffic Safety Administration (NHTSA), Department of Transportation.

ACTION: Request for comments on technical report.

SUMMARY: This notice announces NHTSA's publication of a Technical Report reviewing and evaluating LED Stop Lamps. The report's title is: Effectiveness of LED Stop Lamps for Reducing Rear-End Crashes: Analyses of State Crash Data.

DATES: Comments must be received no later than June 28, 2013.

ADDRESSES: Report: The technical report is available on the Internet for viewing in PDF format at http://www-nrd.nhtsa.dot.gov/Pubs/811712.pdf. You may obtain a copy of the report free of charge by sending a self-addressed mailing label to Nathan K. Greenwell (NVS-431), National Highway Traffic Safety Administration, Room W53-438, 1200 New Jersey Avenue SE., Washington, DC 20590.

Comments: You may submit comments [identified by Docket Number NHTSA-2013-0013] by any of the following methods:

• Federal eRulemaking Portal: Go to http://www.regulations.gov. Follow the online instructions for submitting comments.

• Fax: 1-202-366-3189.

• Mail: Docket Management Facility, M-30, U.S. Department of Transportation, West Building, Ground Floor, Rm. W12-140, 1200 New Jersey Avenue SE., Washington, DC 20590.

• Hand Delivery: West Building Ground Floor, Room W12-140, 1200 New Jersey Avenue SE., between 9 a.m. and 5 p.m. Eastern Time, Monday through Friday, except Federal holidays.

You may call Docket Management at 202-366-9826.

Instructions: For detailed instructions on submitting comments, see the Procedural Matters section of this document. Note that all comments received will be posted without change to http://www.regulations.gov, including any personal information provided.

FOR FURTHER INFORMATION CONTACT: Nathan K. Greenwell, Mathematical Statistician, Evaluation Division, NVS-431, National Center for Statistics and Analysis, National Highway Traffic Safety Administration, Room W53-438, 1200 New Jersey Avenue SE., Washington, DC 20590. Telephone: 202-366-3860. Email: nathan.greenwell@dot.gov.

For information about NHTSA's evaluations of the effectiveness of existing regulations and programs: You may see a list of published evaluation reports at http://www-nrd.nhtsa.dot.gov/cats/listpublications.aspx?Id=226&ShowBy=Category and if you click on any report you will be able to view it in PDF format.

SUPPLEMENTARY INFORMATION: The purpose of this report is to analyze the crash-reduction benefits of light-emitting diode (LED) stop lamps and LED center high-mounted stop lamps (CHMSL) using real-world crash data. Previous work on this subject included laboratory experiments that suggest LED lamps were more beneficial than incandescent lamps at preventing rear-impact collisions. NHTSA statistically compared the overall ratio of rear-impact crashes to a control group of frontal impacts before and after the switch to LED. Overall, the analysis does not support a firm conclusion about whether LED stop lamps and LED CHMSL are more effective than incandescent lamps. The main analysis shows a significant overall 3.6% reduction in rear-impact crashes with LED. On the other hand, a non-parametric analysis not only fails to show improvement in significantly more than half the models, but actually shows an increase in rear impacts with LED for 9 of the 17 make-models that switched to LED. It was just the favorable results for high-sales vehicles such as Honda Accord that pulled the overall result into the plus. Furthermore, and perhaps most important, none of these 17 make-models is a “clean” switch pair that shifted to LED without changing anything else. All of the switch pairs shifted to LED at the same time that they changed the rear-lighting configuration and/or redesigned the vehicle. Basically, the crash data probably won't support a firm conclusion until we have more switch pairs, including some “clean” switch pairs.

Procedural Matters

How can I influence NHTSA's thinking on this subject?

NHTSA welcomes public review of the technical report. NHTSA will submit to the Docket a response to the comments and, if appropriate, will supplement or revise the report.

How do I prepare and submit comments?

Your comments must be written and in English. To ensure that your comments are correctly filed in the Docket, please include the Docket number of this document (NHTSA-2013-0013) in your comments.

Your primary comments must not be more than 15 pages long (49 CFR 553.21). However, you may attach additional documents to your primary comments. There is no limit on the length of the attachments.

Anyone is able to search the electronic form of all comments received into any of our dockets by the name of the individual submitting the comment (or signing the comment, if submitted on behalf of an association, business, labor union, etc.). You may review DOT's complete Privacy Act Statement in the Federal Register published on April 11, 2000 (65 FR 19477) or you may visit http://www.regulations.gov.

Please send two paper copies of your comments to Docket Management, fax them, or use the Federal eRulemaking Portal. The mailing address is U. S. Department of Transportation, Docket Management Facility, M-30, West Building, Ground Floor, Rm. W12-140, 1200 New Jersey Avenue SE., Washington, DC 20590. The fax number is 1-202-366-3189. To use the Federal eRulemaking Portal, go to http://www.regulations.gov and follow the online instructions for submitting comments.

We also request, but do not require you to send a copy to Nathan K. Greenwell, Mathematical Statistician, Evaluation Division, NVS-431, National Highway Traffic Safety Administration, Room W53-438, 1200 New Jersey Avenue SE., Washington, DC 20590 (or email them to nathan.greenwell@dot.gov). He can check if your comments have been received at the Docket and he can expedite their review by NHTSA.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, National Highway Traffic Safety Administration, 1200 New Jersey Avenue SE., Washington, DC 20590. Include a cover letter supplying the information specified in our confidential business information regulation (49 CFR part 512).

In addition, send two copies from which you have deleted the claimed confidential business information to U.S. Department of Transportation, Docket Management Facility, M-30, West Building, Ground Floor, Rm. W12-140, 1200 New Jersey Avenue SE., Washington, DC 20590, or submit them via the Federal eRulemaking Portal.

Will the agency consider late comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How can I read the comments submitted by other people?

You may read the materials placed in the docket for this document (e.g., the comments submitted in response to this document by other interested persons) at any time by going to http://www.regulations.gov. Follow the online instructions for accessing the dockets. You may also read the materials at the Docket Management Facility by going to the street address given above under ADDRESSES. The Docket Management Facility is open between 9 a.m. and 5 p.m. Eastern Time, Monday through Friday, except Federal holidays.

Authority: 49 U.S.C. 30111, 30168; delegation of authority at 49 CFR 1.50 and 501.8.

James F. Simons,
Director, Office of Regulatory Analysis and Evaluation.

[FR Doc. 2013-04690 Filed 2-27-13; 8:45 am]

BILLING CODE 4910-59-P